NUCLEAR REGULATORY COMMISSION

[Docket Nos. 50-245, 50-336, and 50-423]

Northeast Nuclear Energy Company, et al., Millstone Nuclear Power Station, Units 1, 2, and 3; Issuance of Final Director's Decision Under 10 CFR 2.206

Notice is hereby given that the Director of the Office of Nuclear Reactor Regulation, U.S. Nuclear Regulatory Commission (NRC), has issued a Final Director's Decision with regard to a Petition, dated November 25, 1996, as amended on December 23, 1996, filed by Ms. Deborah Katz and Mr. Paul Gunter on behalf of the Citizens Awareness Network and the Nuclear Information and Resource Service, respectively, hereafter referred to as “Petitioners.” The Petition pertains to the Millstone Nuclear Power Station, Units 1, 2, and 3.

The Petitioners requested that the NRC take the following actions: (1) Immediate suspension or revocation of Northeast Utilities' (NU's or the licensee's) licenses to operate its nuclear facilities in Connecticut; (2) investigation of possible NU material misrepresentations to the NRC; (3) [a] revoke the operating licenses for NU's nuclear facilities if an investigation determines that NU deliberately provided insufficient and/or misleading information to the NRC and, [b] if NRC chose not to revoke NU's licenses, continued shutdown of NU facilities until the Department of Justice completes its investigation and the results are reviewed by the NRC; (4) continued listing of the NU facilities on the NRC's Watch List should any facility resume operation; (5) continued shutdown of the NU facilities until the NRC evaluates and approves NU's remedial actions; (6) prohibition of any predecommissioning or decommissioning activities at any NU nuclear facility in Connecticut until NU and the NRC take certain identified steps to assure that such activities can be safely conducted; (7) initiation of an investigation into how the NRC allowed the asserted illegal situation at NU's nuclear facilities in Connecticut to exist and continue for more than a decade; and (8) an immediate investigation of the need for enforcement action for alleged violation of 10 CFR Part 50, Appendix B.

The bases for the Petitioners' assertions were NU and NRC inspection findings and NU documents referred to in the Petition and a VHS videotape, Exhibit A, which accompanied the Petition. Specifically, the Petitioners identified areas that included inadequate surveillance testing, operation outside the design basis, inadequate radiological controls, failed corrective action processes, and degraded material conditions.

The NRC issued a Partial Director's Decision (DD-97-21) dated September 12, 1997, which addressed all of the Petitioners' requests, with one exception. Specifically, with respect to Request 3a of the petitioners' request, the NRC deferred a decision on the request that the NU operating licenses for the Millstone units be revoked if an investigation determined that NU deliberately provided insufficient and/or false or misleading information to the NRC. The decision on that request was deferred at the time the Partial Director's Decision was issued because several NRC investigations were underway. The investigations of NU have been completed and for the reasons given in the Final Director's Decision, DD-00-01, dated February 15, 2000, the NRC was not able to grant Request 3a of the Petition. Request 3b of the Petition, regarding the continued shutdown of NU facilities until the Department of Justice completed its investigation and the results are reviewed by the NRC, was denied in the Partial Director's Decision. Notwithstanding the NRC's 1997 denial of Request 3b, the NRC concludes that, through the actions the NRC required the Millstone facilities to complete prior to restart, the intent of request 3b was met.

Additional information is contained in the “Final Director's Decision Pursuant to 10 CFR 2.206” (DD-00-01), the complete text of which is available for public inspection at the Commission's Public Document Room, the Gelman Building, 2120 L Street, NW., Washington, D.C., and will be accessible from the Agencywide Documents Access and Management System (ADAMS) Public Library component on the NRC Web site, <http://www.nrc.gov> (the electronic reading room).

As provided in 10 CFR 2.206(c), a copy of this Final Director's Decision will be filed with the Secretary of the Commission for the Commission's review. This Final Director's Decision will constitute the final action of the Commission (for Petitioners' Request 3a) 25 days after its issuance, unless the Commission, on its own motion, institutes review of the Decision within that time.

Dated at Rockville, Maryland, this 15th day of February 2000.
For the Nuclear Regulatory Commission.
Samuel J. Collins,
Director, Office of Nuclear Reactor Regulation.

[FR Doc. 00-4355 Filed 2-23-00; 8:45 am]

BILLING CODE 7590-01-P